ENVIRONMENTAL PROTECTION AGENCY

[FRL -7901-5]

Science Advisory Board Staff Office; Clean Air Scientific Advisory Committee (CASAC); Consultation on Ozone Health Assessment Plan

AGENCY: Environmental Protection Agency (EPA).

ACTION: Notice.

SUMMARY: The Environmental Protection Agency (EPA) Science Advisory Board (SAB) Staff Office announces a public meeting of the Clean Air Scientific Advisory Committee's (CASAC) Ozone Review Panel (Panel) to conduct a consultation on EPA's draft Ozone Health Assessment Plan: Scope and Methods for Exposure Analysis and Risk Assessment (April 2005).

DATES: May 5, 2005. The meeting will be held Thursday, May 5, 2005, from 3 to 5 p.m. (eastern time).

Location: The meeting will take place at the Hilton Raleigh-Durham Airport at Research Triangle Park, 4810 Page Road, Research Triangle Park, NC 27709.

FOR FURTHER INFORMATION CONTACT: Any member of the public who wishes to obtain the teleconference call-in numbers and access codes; would like to submit written or brief oral comments (five minutes or less); or wants further information concerning this meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: Under section 108 of the Clean Air Act (CAA or Act), the Agency is required to establish National Ambient Air Quality Standards (NAAQS) for each pollutant for which EPA has issued criteria, including ozone (O3). Section 109(d) of the CAA subsequently requires periodic review and, if appropriate, revision of existing air quality criteria and standards to reflect advances in scientific knowledge on the effects of the pollutant on public health and welfare. The Agency revised the NAAQS for O3 in July 1997. EPA's Office of Research and Development (ORD) has recently released a draft updated air quality criteria document for O3 (draft Ozone AQCD). The CASAC Ozone Review Panel will convene to conduct a peer review on this draft Ozone AQCD on May 4-5, 2005. EPA's Office of Air Quality Planning and Standards (OAQPS), within the Office of Air and Radiation (OAR), is in the process of developing a draft updated Staff Paper for O3 as part of its review of the O3 NAAQS. This draft Staff Paper will evaluate the policy implications of the key scientific and technical information contained in the draft Ozone AQCD and identify critical elements that EPA believes should be considered in the review of the O3 NAAQS. The O3 Staff Paper is intended to “bridge the gap” between the scientific review contained in the Ozone AQCD and the public health and welfare policy judgments required of the EPA Administrator in reviewing the O3 NAAQS. Key components of this O3 Staff Paper include a quantitative population exposure analysis and health risk assessment. OAQPS has developed a draft Ozone Health Assessment Plan which includes a discussion of the scope, approaches, and methods that staff is planning to use in conducting the population exposure analysis and health risk assessment.

EPA is soliciting advice and recommendations from the CASAC by means of a consultation on the draft Ozone Health Assessment Plan. The CASAC, which is comprised of seven members appointed by the EPA Administrator, was established under section 109(d)(2) of the CAA (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App. The CASAC Ozone Review Panel will comply with the provisions of FACA and all appropriate SAB Staff Office procedural policies.

Technical Contact: Any questions concerning the draft Ozone Health Assessment Plan should be directed to Mr. Harvey Richmond, OAQPS, at phone: (919) 541-5271, or e-mail: richmond.harvey@epa.gov.

Availability of Meeting Materials: The draft Ozone Health Assessment Plan can be accessed via the Agency's Technology Transfer Network (TTN) Web site at: http://www.epa.gov/ttn/naaqs/standards/ozone/s_o3_index.html under “Planning Documents.”

In addition, a copy of the draft agenda for this meeting will be posted on the SAB Web site at: http://www.epa.gov/sab (under the “Agendas” subheading) in advance of this CASAC Ozone Review Panel meeting. Other meeting materials, including the charge to the CASAC Ozone Review Panel, will be posted on the SAB Web site at: http://www.epa.gov/sab/panels/casacorpanel.html prior to this meeting.

Providing Oral or Written Comments at SAB Meetings: It is the policy of the SAB Staff Office to accept written public comments of any length, and to accommodate oral public comments whenever possible. The SAB Staff Office expects that public statements presented at its face-to-face meetings and teleconferences will not be repetitive of previously-submitted oral or written statements. Oral Comments: In general, each individual or group requesting an oral presentation at a meeting or teleconference will be limited to a total time of five minutes (unless otherwise indicated). For scheduling purposes, requests to provide oral comments must be in writing (e-mail, fax or mail) and received by Mr. Butterfield no later than noon Eastern Time five business days prior to the meeting in order to reserve time on the meeting agenda. Speakers should bring at least 75 copies of their comments and presentation slides for distribution to the reviewers and public at the meeting. Written Comments: Although the SAB Staff Office accepts written comments until the date of the meeting (unless otherwise stated), written comments should be received in the SAB Staff Office no later than noon Eastern Time five business days prior to the meeting so that the comments may be made available to the CASAC Ozone Review Panel for their consideration. Comments should be supplied to Mr. Butterfield (preferably via e-mail) at the address/contact information noted above, as follows: one hard copy with original signature, and one electronic copy via e-mail (acceptable file format: Adobe Acrobat PDF, WordPerfect, MS Word, MS PowerPoint, or Rich Text files (in IBM-PC/Windows 98/2000/XP format)). Those providing written comments and who attend the meeting in person are also asked to bring 75 copies of their comments for public distribution.

Meeting Access: Individuals requiring special accommodation at this meeting, including wheelchair access to the conference room, should contact Mr. Butterfield at the phone number or an e-mail address noted above at least five business days prior to the meeting so that appropriate arrangements can be made.

Dated: April 14, 2005.
Vanessa T. Vu,
Director, PA Science Advisory Board Staff Office.

[FR Doc. 05-7935 Filed 4-19-05; 8:45 am]

BILLING CODE 6560-50-P